DEPARTMENT OF THE INTERIOR

Bureau of Reclamation

[RR02471000, 18XR0680A4, RX.08804994.2000000]

Notice of Proposed New Fee Site, Lake Berryessa, Napa, California; Federal Lands Recreation Enhancement Act

AGENCY: Bureau of Reclamation, Interior.

ACTION: Notice of proposed new fee site; request for comments.

SUMMARY: The Bureau of Reclamation is proposing to charge and retain fees for day use and boat launch at Capell Cove Boat Launch, Oak Shores and Smittle Creek Day Use Areas located at Lake Berryessa. Special Recreation Event authorization fees, and shade shelter reservations are also proposed to be retained under this authority.

DATES: Submit written comments on the new fee site on or before January 31, 2019. The proposed new fees would begin May 1, 2019. Public meeting dates and location will be announced locally by press release and posted on the Lake Berryessa website at www.usbr.gov/mp/ccao/berryessa/.

ADDRESSES: Send written comments on the proposed new fee site to Drew Lessard, Area Manager, Central California Area Office, Bureau of Reclamation, 7794 Folsom Dam Road, Folsom, California 95630.

FOR FURTHER INFORMATION CONTACT: Margaret David Bailey, Lake Berryessa Park Manager, Bureau of Reclamation, 5520 Knoxville Road, Napa, California 94558; or call (707) 966-2111 extension 106; or send email to mbailey@usbr.gov.

SUPPLEMENTARY INFORMATION: The Federal Lands Recreation Enhancement Act (Title VII, Pub. L. 108-447) directed the Secretary of the Interior to publish a 6-month advance notice in the Federal Register whenever new recreation fee areas are established. Once public outreach is complete, the new fees proposed below will be reviewed by the Bureau of Reclamation Mid-Pacific Regional Director prior to a final decision and implementation. Visitors wanting to reserve shade shelters would need to do so through the National Reservation Service at www.recreation.gov, or by calling 1-877-444-6777.

The proposed fee for day use is $5 per vehicle ($50 annual fee); boat launch is $10 per launch ($100 annual fee); and $25 per shade shelter. All interagency Senior and Access Passes will be accepted for day use and discounted boat launching (50% discount). An analysis of the nearby Federal and state recreation offerings with similar amenities shows that the proposed fees are reasonable and typical of similar sites in the area. Funds from fees will be used for the continued operation, maintenance, and improvements of the reservoir area recreation amenities and related programs.

Public Disclosure. Before including your address, phone number, email address, or other personal identifying information in your comment, you should be aware that your entire comment—including your personal identifying information—may be made publicly available at any time. While you can ask us in your comment to withhold your personal identifying information from public review, we cannot guarantee that we will be able to do so.

Dated: July 19, 2018.
Richard J. Woodley,
Acting Regional Director.

[FR Doc. 2018-15909 Filed 7-24-18; 8:45 am]

BILLING CODE 4332-90-P